DEPARTMENT OF ENERGY

Blue Ribbon Commission on America's Nuclear Future, Disposal Subcommittee

AGENCY: Department of Energy, Office of Nuclear Energy.

ACTION: Notice of open meeting correction.

On June 21, 2010, the Department of Energy published a notice announcing an open meeting of the Disposal Subcommittee, 75 FR 35000, on July 7, 2010. In that notice under Public Participation it was indicated that the meeting will be available via live audio Webcast. The meeting is now planned to be live video Webcast. Additional information will be available regarding the live video Webcast via the Commission Web site at http://www.brc.gov.

Issued in Washington, DC, on June 22, 2010.
Rachel Samuel,
Deputy Committee Management Officer.

[FR Doc. 2010-15624 Filed 6-25-10; 8:45 am]

BILLING CODE 6450-01-P